DEPARTMENT OF TRANSPORTATION

Pipeline and Hazardous Materials Safety Administration

[Docket No. PHMSA-2021-0117 (Notice No. 2022-05)]

Hazardous Materials: Information Collection Activities

AGENCY: Pipeline and Hazardous Materials Safety Administration (PHMSA), DOT.

ACTION: Notice and request for comments.

SUMMARY: In accordance with the Paperwork Reduction Act of 1995, this notice announces that the Information Collection Request (ICR) discussed below will be forwarded to the Office of Management and Budget for renewal and extension, and this notice describes the nature of the information collection and its expected burdens. Additionally, we note that on January 13, 2022, a notice with a 60-day comment period soliciting comments on this ICR was published in the Federal Register, and PHMSA did not receive any comments on it.

DATES: Interested persons are invited to submit comments on, or before May 5, 2022.

ADDRESSES: Written comments and recommendations for the proposed information collection should be sent within 30 days of publication of this notice to www.reginfo.gov/public/do/PRAMain. Find this particular information collection by selecting “Currently under 30-day Review—Open for Public Comments” or by using the search function.

We invite comments on: (1) Whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

Docket: For access to the Dockets to read background documents or comments received, go to http://www.regulations.gov.

FOR FURTHER INFORMATION CONTACT: Steven Andrews or Shelby Geller, Standards and Rulemaking Division, (202) 366-8553, Pipeline and Hazardous Materials Safety Administration, U.S. Department of Transportation, 1200 New Jersey Avenue SE, Washington, DC 20590-0001.

SUPPLEMENTARY INFORMATION: Section 1320.8(d), title 5, Code of Federal Regulations (CFR) requires PHMSA to provide interested members of the public and affected agencies an opportunity to comment on information collection and recordkeeping requests. Today's notice identifies an information collection request that PHMSA had previously published a 60-day notice ¹ seeking comments and is now submitting to the Office of Management and Budget (OMB) for renewal and extension. This information collection is contained in 49 CFR 171.6 of the Hazardous Materials Regulations (HMR; 49 CFR parts 171-180). PHMSA has revised burden estimates, where appropriate, to reflect current reporting levels or adjustments based on changes in proposed or final rules published since the information collection was last approved. The following information is provided for the information collection: (1) Title of the information collection, including former title if a change is being made; (2) OMB control number; (3) summary of the information collection activity; (4) description of affected public; (5) estimate of total annual reporting and recordkeeping burden; and (6) frequency of collection. PHMSA will request a 3-year term of approval for the information collection activity and will publish a notice in the Federal Register alerting the public upon OMB's approval.

¹ See the 60-day notice published under Docket No. PHMSA-2021-0117 (Notice No. 2022-01), on January 13, 2022 [87 FR 2238] at: https://www.federalregister.gov/documents/2022/01/13/2022-00575/hazardous-materials-information-collection-activities.

PHMSA requests comments on the following information collection:

Title: Flammable Hazardous Materials by Rail Transportation

OMB Control Number: 2137-0628.

Summary: This OMB control number is used for information and recordkeeping requirements pertaining to the sampling and testing certification, routing analysis, and incident reporting for flammable liquids by rail transportation. Rail carriers, shippers, PHMSA's Office of Hazardous Materials Safety (OHMS), the Federal Railroad Administration (FRA), and the Association of American Railroads (AAR) may use this information to ensure that rail tank cars transporting flammable liquids are properly classified, ensure trains are routed appropriately, and collect all relevant incident data.

This OMB control number is being submitted for renewal and includes the following information collections and associated burden hours:

Information collection | Respondents | Responses | Hours per response | Total hours
Sampling and Testing Plan Burden for Subsequent Year Revision | 1,801 | 1,801 | 10 | 18,010
Routing—Collection by Segment for Class II Railroads | 10 | 10 | 40 | 400
Routing—Collection by Segment for Class III Railroads | 160 | 160 | 40 | 6,400
Routing Analysis Burden for Class II Railroads | 10 | 50 | 16 | 800
Routing Analysis Burden for Class III Railroads | 160 | 320 | 8 | 2,560
Routing Security Analysis Burden for Class II Railroads | 10 | 40 | 12 | 480
Routing Security Analysis Burden for Class III Railroads | 64 | 32 | 4 | 128
Tank Car Retrofit Burden | 50 | 50 | 0.5 | 25
Crude Oil Incident Reporting | 17 | 17 | 2 | 34
Oil Spill Response Plans—Submit Reports | 73 | 14.6 | 0.5 | 7.3
Oil Spill Response Plan—Class I | 7 | 7 | 162 | 1,134
Oil Spill Response Plan—Class II | 11 | 11 | 54 | 594
Oil Spill Response Plan—Class III | 55 | 55 | 36 | 1,980
Notification Plans—Maintenance | 73 | 2,190 | 1 | 2,190
Notification Plans—DOT Request | 73 | 15.33 | 1 | 15.33

Affected Public: Shippers and carriers of petroleum liquids transported by rail.

Annual Reporting and Recordkeeping Burden:

Number of Respondents: 2,574.

Total Annual Responses: 4,773.

Total Annual Burden Hours: 34,758.

Frequency of Collection: On occasion.

Issued in Washington, DC, on March 31, 2022.
William A. Quade,
Deputy Associate Administrator of Hazardous Materials Safety, Pipeline and Hazardous Materials Safety Administration.

[FR Doc. 2022-07166 Filed 4-4-22; 8:45 am]

BILLING CODE 4910-60-P